DEPARTMENT OF HEALTH AND HUMAN SERVICES

Substance Abuse and Mental Health Services Administration

Statement of Organization, Functions, and Delegations of Authority

Part M of the Substance Abuse and Mental Health Services Administration (SAMHSA) Statement of Organization, Functions, and Delegations of Authority for the Department of Health and Human Services at 71 FR 19740-19741, April 17, 2006 is amended to reflect changes of the functional statements for the Center for Mental Health Services (CMHS). This amendment reflects the placement of the organization and financing activities from the Office of the Director, CMHS, into the Division of State and Community Systems Development (DSCSD), CMHS. DSCSD serves as a focal point for planning, supporting and promoting effective programs concerned with improving State mental health services within the Nation, as well as obtaining, analyzing and disseminating statistics on the major characteristics of the national mental health service systems. The organization and financing activities is closely aligned with other mental health programs managed by this Division. This realignment of function will have a positive impact on organizational effectiveness. The changes are as follows:

Section M.20, Functions is amended as follows:

The functional statements for the Center for Mental Health Services (MS), Office of the Director (MS-1), and the Division of State and Community Systems Development (MSE) are replaced with the following:

Center for Mental Health Services (MS)

Office of the Director (MS-1)

(1) Provides leadership in planning, implementing, and evaluating the Center's goals, priorities, policies, and programs, including equal employment opportunity, and is the focal point for the Department's efforts in mental health services; (2) plans, directs, and provides overall administration of the programs of CMHS; (3) conducts and coordinates Center interagency, interdepartmental, intergovernmental, and international activities; (4) provides information to the public and constituent organizations on CMHS programs; (5) maintains liaison with national organizations, other Federal departments/agencies, the National Institute of Mental Health and with other SAMSHA Centers; (6) administers committee management and reports clearance activities; (7) conducts consumer affairs activities; and (8) monitors the conduct of equal employment opportunity activities of CMHS.

Division of State and Community Systems Development (MSE)

(1) Administers the Community Mental Health Services Block Grant, including monitoring State implementation of the Mental Health State Plan, compliance with the provisions of the Public Health Service Act, as amended, regarding use of the payments and maintenance of effort; (2) provides technical assistance to the States with respect to the planning, development, financing, and operation of programs or services carried out pursuant to the block grant program; (3) administers a program of State human resource development; (4) plans and supports programs of mental health education, with emphasis on targeted populations; (5) plans and supports programs to provide protection and advocacy services for persons with severe mental disorders; and (6) supports programs for: (a) Obtaining, analyzing, and disseminating national statistics on mental health services, (b) developing methodologies for data collection in biometry and mental health economics; (c) organization and financing activities, and (d) consulting with and providing technical assistance to State and local mental health agencies on statistical methodology, mental health information systems, and the use of statistical and demographic data.

Delegations of Authority

All delegations and redelegations of authority to officers and employees of SAMHSA which were in effect immediately prior to the effective date of this reorganization shall continue to be in effect pending further redelegations, providing they are consistent with the reorganization.

These organizational changes are effective:

Dated: July 5, 2006.
Eric B. Broderick,
Acting Deputy Administrator, Assistant Surgeon General.

[FR Doc. 06-6272 Filed 7-17-05; 8:45 am]

BILLING CODE 4160-01-M